DEPARTMENT OF COMMERCE

Foreign-Trade Zones Board

[B-41-2018]

Foreign-Trade Zone 78—Nashville, Tennessee; Application for Reorganization Under Alternative Site Framework

An application has been submitted to the Foreign-Trade Zones (FTZ) Board by the Metropolitan Government of Nashville and Davidson County, grantee of FTZ 78, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on June 28, 2018.

FTZ 78 was approved by the FTZ Board on April 2, 1982 (Board Order 190, 47 FR 16191, April 15, 1982) and expanded on February 18, 1999 (Board Order 1024, 64 FR 9472, February 26, 1999), on October 24, 2000 (Board Order 1124, 65 FR 66231, November 3, 2000), on September 30, 2002 (Board Order 1249, 67 FR 62697, October 8, 2002), and on June 22, 2011 (Board Order 1768, 76 FR 39379, July 6, 2011).

The current zone includes the following sites: Site 6 (806 acres)—Nashville International Airport, One Terminal Drive, Nashville; Site 7 (80 acres)—East Gate Business Park, 3850 and 7800 Eastgate Blvd., Nashville; Site 13 (128 acres)—GAP, Inc., 100, 200 & 300 Gap Blvd., Gallatin; Site 14 (2 acres)—DHL Global Forwarding, 317 Air Freight Blvd., Nashville; and, Site 15 (27.37 acres)—Ozburn-Hessey Logistics, Inc., 578 Aldi Blvd., Mt. Juliet.

The grantee's proposed service area under the ASF would be the Counties of Cannon, Cheatham, Davidson, Dickson, Macon, Maury, Montgomery, Robertson, Rutherford, Smith, Sumner, Trousdale, Williamson and Wilson, Tennessee, as described in the application. If approved, the grantee would be able to serve sites throughout the service area based on companies' needs for FTZ designation. The application indicates that the proposed service area is within and adjacent to the Nashville Customs and Border Protection port of entry.

The applicant is requesting authority to reorganize its existing zone to include existing Sites 6 and 7 as “magnet” sites and existing Sites 13, 14 and 15 as usage-driven sites. The ASF allows for the possible exemption of one magnet site from the “sunset” time limits that generally apply to sites under the ASF, and the applicant proposes that Site 6 be so exempted. No proposed subzones/usage-driven sites are being requested at this time. The application would have no impact on FTZ 78's previously authorized subzones.

In accordance with the FTZ Board's regulations, Kathleen Boyce of the FTZ Staff is designated examiner to evaluate and analyze the facts and information presented in the application and case record and to report findings and recommendations to the FTZ Board.

Public comment is invited from interested parties. Submissions shall be addressed to the FTZ Board's Executive Secretary at the address below. The closing period for their receipt is September 4, 2018. Rebuttal comments in response to material submitted during the foregoing period may be submitted during the subsequent 15-day period to September 18, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz. For further information, contact Kathleen Boyce at Kathleen.Boyce@trade.gov or (202) 482-1346.

Dated: June 28, 2018.
Elizabeth Whiteman,
Acting Executive Secretary.

[FR Doc. 2018-14428 Filed 7-3-18; 8:45 am]

BILLING CODE 3510-DS-P